DEPARTMENT OF ENERGY

[Docket No. 13-147-LNG]

Delfin LNG LLC; Request for Amendment of Long-Term Authorizations To Export Liquefied Natural Gas and for Additional Extension of Time To Commence Exports

AGENCY: Office of Fossil Energy and Carbon Management, Department of Energy.

ACTION: Notice of request.

SUMMARY: The Office of Fossil Energy and Carbon Management (FECM) (formerly the Office of Fossil Energy) of the Department of Energy (DOE), gives notice (Notice) of receipt of a request (Request), filed on May 2, 2025, by Delfin LNG LLC (Delfin). Delfin requests to amend its existing authorization to export domestically produced liquefied natural gas (LNG) to non-free trade agreement countries set forth in DOE/FE Order No. 4028, as amended, by extending the current commencement of export operations deadline from Delfin's proposed floating LNG (FLNG) liquefaction facility (Project) to June 1, 2031. Delfin also asks that its existing authorization be amended to reflect a facility redesign that includes three FLNG vessels instead of the original four. Delfin filed its Request under the Natural Gas Act (NGA) and DOE's regulations.

DATES: Protests, motions to intervene, or notices of intervention, as applicable, and written comments are to be filed as detailed in the Public Comment Procedures section no later than 4:30 p.m., eastern time, July 7, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Ajoke Agboola, U.S. Department of Energy (GC-76), Office of the Assistant General Counsel for Energy Delivery and Resilience, Forrestal Building, Room 6D-033, 1000 Independence Avenue SW, Washington, DC 20585, (240) 805-2147, ajoke.agboola@hq.doe.gov

SUPPLEMENTARY INFORMATION: On June 1, 2017, in DOE/FE Order No. 4028 (as amended) ¹ and pursuant to NGA section 3(a),² DOE authorized Delfin to export domestically produced LNG by vessel from the proposed Project, to be located offshore of Cameron Parish, Louisiana, to any country with which the United States does not have a free trade agreement (FTA) requiring national treatment for trade in natural gas, which currently has or in the future develops the capacity to import LNG, and with which trade is not prohibited by U.S. law or policy (non-FTA countries). Delfin is authorized to export this LNG in a volume equivalent to 657.5 billion cubic feet per year of natural gas through December 31, 2050.³

¹ Delfin LNG LLC, DOE/FE Order No. 4028, Docket No. 13-147-LNG, Opinion And Order Granting Long-Term, Multi-Contract Authorization to Export Liquefied Natural Gas by Vessel from a Proposed Floating Liquefaction Project and Deepwater Port 30 Miles Offshore of Louisiana to Non-Free Trade Agreement Nations (June 1, 2017), reh'g denied, DOE/FE Order No. 4028-A (Apr. 3, 2018), amended by DOE/FE Order No. 4028-B (Dec. 10, 2020) (extending term through 2050), further amended by DOE/FE Order No. 4028-C (May 18, 2021) (correcting and amending location of FLNG vessels), further amended by DOE/FECM Order No. 4028-D (Mar. 10, 2025) (extending export commencement deadline). In addition, Delfin's export authorization was amended by DOE/FE Order No. 4641 (Dec. 18, 2020) to include short-term export authority on a non-additive basis.

² 15 U.S.C. 717b(a).

³ DOE/FE Order No. 4028, as amended in Order No. 4028-B (Ordering Para. E).

On March 21, 2025, the U.S. Department of Transportation's Maritime Administration (MARAD) issued the license, under the Deepwater Port Act (DWPA), required for Delfin to own, construct, and operate its Project.⁴ According to Delfin, the DWPA license requires Delfin to “begin construction of the deepwater port no later than five years after the effective date of the license,” but “the deadline may be extended for delays in necessary construction permits, delays due to time-of-year construction limitations beyond Delfin's direct control, or additional periods as MARAD may permit for good cause.” ⁵ Delfin notes that its DWPA license “does not mandate any timing deadline for completion of the Project.” ⁶

⁴ MARAD Press Release, “The Maritime Administration Issues the License for the Delfin LNG, LLC Deepwater Port Application” (Mar. 21, 2025), https://www.maritime.dot.gov/newsroom/maritime-administration-issues-license-delfin-lng-llc-deepwater-port-application.

⁵ Request at 5-6 & n.17 (May 2, 2025) (emphasis in original), https://www.energy.gov/sites/default/files/2025-05/Delfin%20LNG%20DOE%20Extension%20request%20%28050225%29.pdf (citing Delfin DWPA License, Article 5).

⁶ Id. at 6 n.17.

As relevant here, Order No. 4028, as amended, requires Delfin to commence export operations from the Project no later than June 1, 2029.⁷ In its Request, Delfin asks DOE to extend the deadline to commence commercial non-FTA LNG export operations from the Project by another two years, from June 1, 2029, to June 1, 2031.⁸

⁷ DOE/FECM Order No. 4028-D, at 25 (Ordering Para. B). Delfin has also asked DOE to amend its existing FTA authorization (DOE/FE Order No. 3393, as amended). DOE will address the FTA portion of the Request separately pursuant to NGA section 3(c), 15 U.S.C. 717b(c).

⁸ Request at 2.

Delfin also asks for an amendment “to reflect the current design of its Project in accordance with the [DWPA] license,” stating that the amendment would “reflect the refinements of Delfin's Project over time [and would] not require any change in the authorized volumes nor in any of the other Ordering Paragraphs.” ⁹ Specifically, “[t]o ensure that the export authorizations properly reflect the current Project design (as detailed to MARAD prior to DWPA License issuance),” the amendment Delfin seeks would “reflect that the Project now includes three [FLNG vessels], with no change in the currently authorized export volumes.” ¹⁰ (Emphasis in original).

⁹ Id.

¹⁰ Id. at 10-11.

In support of its Request, Delfin states that it obtained its DWPA license from MARAD in March 2025, with a five-year construction commencement deadline but no operation commencement deadline. Delfin requests that DOE amend Order No. 4028-D to require the commencement of exports using the planned facilities no later than June 1, 2031, with a configuration of three FLNG vessels. Delfin further identifies the actions it has taken to date to proceed with the construction and operation of its Project.

Additional details can be found in the Request, posted on the DOE website at https://www.energy.gov/sites/default/files/2025-05/Delfin%20LNG%20DOE%20Extension%20request%20%28050225%29.pdf.

DOE Evaluation

In reviewing Delfin's Request, DOE will consider any issues required by law or policy under NGA section 3(a), DOE's regulations, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Request. Interested parties will be provided 30 days from the date of publication of this Notice in the Federal Register in which to submit comments, protests, motions to intervene, or notices of intervention. The public previously was given an opportunity to intervene in, protest, and comment on Delfin's non-FTA application in Docket No. 13-147-LNG.¹¹ Therefore, DOE will not consider comments or protests that do not bear directly on this Request.

¹¹ See supra note 1.

Any person wishing to become a party to this proceeding evaluating Delfin's Request must file a motion to intervene or notice of intervention.¹² The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

¹² Status as an intervenor in prior proceeding(s) in this docket does not continue to this proceeding evaluating Delfin's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 13-147-LNG” or “Delfin LNG LLC Request” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on June 3, 2025.
Amy Sweeney,
Director, Office of Regulation, Analysis, and Engagement, Office of Resource Sustainability.

[FR Doc. 2025-10325 Filed 6-5-25; 8:45 am]

BILLING CODE 6450-01-P